DEPARTMENT OF AGRICULTURE

Agricultural Marketing Service

[Docket No. AMS-TM-09-0080; TM-09-10]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection, Federal-State Marketing Improvement Program (FSMIP).

DATES: Comments on this notice must be received by April 6, 2010 to be assured of consideration.

Additional Information or Comments: Contact Janise Zygmont, Staff Officer, Federal-State Marketing Improvement Program, Transportation and Marketing Program, Agricultural Marketing Service, U.S. Department of Agriculture, 1800 M Street, NW., Room 3002-South Tower, Washington, DC 20036, telephone: 202-694-4002; fax: 202-694-5950.

SUPPLEMENTARY INFORMATION: FSMIP is authorized under Section 204(b) of the Agricultural Marketing Act of 1946 (7 U.S.C. 1621 et seq.). FSMIP provides matching grants on a competitive basis to enable States to explore new market opportunities for U.S. food and agricultural products and to encourage research and innovation aimed at improving the efficiency and performance of the U.S. marketing system.

Title: Federal-State Marketing Improvement Program (FSMIP).

OMB Number: 0581-0240.

Type of Request: Extension and revision of a currently approved information collection.

Expiration Date of Approval: August 31, 2010.

Abstract: The primary objective of FSMIP is to enable States to explore new market opportunities for U.S. food and agricultural products and to encourage research and innovation aimed at improving the efficiency and performance of the U.S. marketing system. Eligible entities under this program include State departments of agriculture, State agricultural experiment stations, and other appropriate State Agencies.

AMS has established guidelines that contain full details about FSMIP and the application process. The guidelines and application forms are available from the FSMIP Staff Officer by calling 202/694-4002, faxing-202/694-5950, or e-mailing to janise.zygmont@ams.usda.gov. This information is also available at the FSMIP Web site: http://www.ams.usda.gov/FSMIP. FSMIP applicants must complete Form SF-424, “Application for Federal Assistance,” (approved under OMB #4040-0004) for each application. Form SF-424A, “Budget Information—Non-Construction Programs,” (approved under OMB #4040-0006) also must be completed for each application to show the project's budget breakdown, both with regard to expense categories and the division between Federal and matching non-Federal sources, as applicable. A Proposal Narrative is also required for each application.

AMS needs to receive the information contained in this collection of information to select the projects that will best meet and fulfill FSMIP program objectives. The selection process is competitive and AMS must ensure that limited funds are used for the intended purpose.

Estimate of Burden: The public reporting burden for completing the SF-424, SF-424A, and the Proposal Narrative is estimated to average 12.25 hours per response.

Respondents: State departments of agriculture, State agricultural experiment stations, and other appropriate State Agencies.

Estimated Number of Respondents: 75.

Estimated Total Annual Responses: 450.

Estimated Number of Responses per Respondent: 6.

Estimated Total Annual Burden on Respondents: 5,513 hours.

After approval of the grant application and before grant funds are dispersed, grantees must complete the following forms to certify compliance with applicable Federal regulations: Form SF-424B, “Assurances—Non-Construction Programs,” (approved under OMB #4040-0007); AD-1047, Certification Regarding Debarment, Suspension, and Other Responsibility Matters—Primary Covered Transactions; AD-1048, Certification Regarding Debarment, Suspension, Ineligibility and Voluntary Exclusion—Lower Tier Covered Transactions; and AD-1049, Certification Regarding Drug-Free Workplace Requirements (Grants) Alternative 1-for Grantees Other Than Individuals.

In addition, two copies of the Grant Agreement must be signed with an original signature and dated once by grantees after their proposals have been approved and before grant funds are dispersed. In the past, grantees were required to sign four copies of the Grant Agreement. AMS has determined that having grantees sign four original Grant Agreements was not necessary. This decision has no impact on the public reporting burden. The information will be used to affirm the award amount, time frame, objectives and work plan agreed upon by the grantee and USDA/AMS. The Grant Agreement also outlines responsibilities of both parties with regard to the grant.

Standard Form 270, Request for Advance or Reimbursement (approved under OMB #0348-0004), is completed whenever the grantee requests an advance or reimbursement of grant funds. The information will be used to keep track of grant disbursements and the level of matching funds expended by the grantee during the grant period. We expect that grantees will submit a total of three SF-270 forms during the grant period.

Estimate of Burden: The public reporting burden for completing the SF-424B, AD-1047, AD-1048, AD-1049, the Grant Agreement, and three SF-270 forms is estimated to average 3.23 hours per response.

Respondents: State departments of agriculture, State agricultural experiment stations, and other appropriate State Agencies.

Estimated Number of Respondents: 25.

Estimated Total Annual Responses: 200.

Estimated Number of Responses per Respondent: 8.

Estimated Total Annual Burden on Respondents: 646 hours.

Progress Reports are required at the midpoint of projects approved for one year and at six-month intervals for projects of longer duration. Progress Reports should (1) briefly summarize activities performed and milestones achieved for each objective or sub-element of the narrative; (2) note unexpected delays or impediments as well as favorable or unusual developments; (3) outline work to be performed during the succeeding period; and (4) indicate the amount of grant and matching funds expended to date. We expect that grantees will submit a total of two Progress Reports during the grant period.

Estimate of Burden: The public reporting burden for two Progress Reports is estimated to average 14 hours per response.

Respondents: State departments of agriculture, State agricultural experiment stations, and other appropriate State Agencies.

Estimated Number of Respondents: 25.

Estimated Total Annual Responses: 50.

Estimated Annual Number of Responses per Respondent: 2.

Estimated Total Annual Burden on Respondents: 700 hours.

Not later than 90 days following the ending date of the Grant Agreement the grantee must submit Standard Form 425, Federal Financial Report (approved under OMB #0348-0061), to document the final financial status of the grant project and to indicate that the one-to-one matching requirement has been met. In the past, grantees used Standard Form 269A (or Standard Form 269 if the grant involved program income) to document the final financial activity of the grant. Standard Forms 269A and 269 were discontinued by OMB as of October 1, 2009. AMS has determined that a new form, Standard Form 425 (OMB Approval Number 0348-0061), is an acceptable replacement that will allow grantees to report the final financial activity of the grant. The public reporting burden for Standard Form 425 is estimated to average 1.5 hours per response, which is the same as the reporting burden for Standard Form 269A.

The grantee must also submit a Final Report of results and accomplishments within 90 days following the grant ending date. The Final Report will include:

• An outline of the issue or problem.

• A description of how the issue or problem was approached via the project.

• A description of the contribution of public or private agency cooperators.

• A description of results, conclusions and lessons learned.

• A summary of current or future benefits to be derived from the project.

• Additional information available (publications, Web sites).

• Recommendations for future research needed, if applicable.

• A description of the project beneficiaries.

• The contact person for the project with telephone number and e-mail address.

Estimate of Burden: The public reporting burden for completing Standard Form 425 and the Final Report is estimated to average 16.78 hours per response.

Respondents: State departments of agriculture, State agricultural experiment stations, and other appropriate State agencies.

Estimated Number of Respondents: 25.

Estimated Total Annual Responses: 50.

Estimated Number of Responses per Respondent: 2.

Estimated Total Annual Burden on Respondents: 838 hours.

In accordance with 7 CFR 3016.42, grantees are required to maintain all financial and programmatic records, supporting documents, statistical records, and other records of grantees or sub-grantees for a period of three years from the day the grantee submits the final financial report.

Estimate of Burden: The public reporting burden for maintaining required records relating to the grant is estimated to average 1 hour per response.

Respondents: State departments of agriculture, State agricultural experiment stations, and other appropriate State agencies.

Estimated Number of Respondents: 25.

Estimated Total Annual Responses: 25.

Estimated Number of Responses per Respondent: 1.

Estimated Total Annual Burden on Respondents: 25 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Janise Zygmont, FSMIP Staff Officer, USDA, AMS, 1800 M Street, NW., Room 3002-South Tower, Washington, DC 20036. All comments received will be available for public inspection during regular business hours at the same address.

All responses to this notice will be summarized and included in the request for OMB approval. All comments will become a matter of public record.

Dated: February 2, 2010.
Rayne Pegg,
Administrator, Agricultural Marketing Service.

[FR Doc. 2010-2543 Filed 2-4-10; 8:45 am]

BILLING CODE 3410-02-P